DEPARTMENT OF LABOR

Occupational Safety and Health Administration

29 CFR Part 1910

[Docket No. OSHA-2007-0032 (Formerly Docket No. OSHA-S031-2006-0665 and OSHA Docket No. S-031)]

RIN 1218-AC09

Explosives

AGENCY: Occupational Safety and Health Administration (OSHA), Department of Labor.

ACTION: Proposed rule; close of comment period.

SUMMARY: On April 13, 2007, the U.S. Department of Labor published a proposed rule entitled Explosives with a comment period that ended 7/12/2007. On July 9, 2007, the comment period was extended to 9/10/2007. At this time the U.S. Department of Labor is closing the comment period effective July 17, 2007. The Department intends to re-propose the Explosives NPRM at a later date in order to clarify the intent of the rulemaking.

DATES: The comment period for the proposed rule published on April 13, 2007 (72 FR 18792) is closed effective July 17, 2007.

FOR FURTHER INFORMATION CONTACT: For general information and press inquiries, contact Mr. Kevin Ropp, Office of Communications, Room N-3647, OSHA, U.S. Department of Labor, 200 Constitution Avenue, NW., Washington, DC 20210; telephone (202) 693-1999. For technical inquiries, contact Donald Pittenger, Directorate of Standards and Guidance, Room N-3609, OSHA, U.S. Department of Labor, 200 Constitution Avenue, NW., Washington, DC 20210; telephone (202) 693-2255 or fax (202) 693-1663.

Signed at Washington, DC, on July 13, 2007.
Edwin G. Foulke, Jr.,
Assistant Secretary of Labor for Occupational Safety and Health.

[FR Doc. E7-13925 Filed 7-16-07; 8:45 am]

BILLING CODE 4510-26-P